Proclamation 7780 of April 30, 2004

National Day of Prayer, 2004

By the President of the United States of America

A Proclamation

In his first Inaugural Address, President George Washington prayed that the Almighty would preserve the freedom of all Americans. On the National Day of Prayer, we celebrate that freedom and America's great tradition of prayer. The National Day of Prayer encourages Americans of every faith to give thanks for God's many blessings and to pray for each other and our Nation.

Prayer is an opportunity to praise God for His mighty works, His gift of freedom, His mercy, and His boundless love. Through prayer, we recognize the limits of earthly power and acknowledge the sovereignty of God. According to Scripture, “the Lord is near to all who call upon Him . . . He also will hear their cry, and save them.” Prayer leads to humility and a grateful heart, and it turns our minds to the needs of others.

On this National Day of Prayer, we pray especially for the brave men and women of the United States Armed Forces who are serving around the world to defend the cause of liberty. We are grateful for their courage and sacrifice and ask God to comfort their families while they are away from home. We also pray that the people of Iraq and Afghanistan, and throughout the Greater Middle East, may live in safety and freedom. During this time, we continue to ask God's blessing for our Nation, granting us strength to meet the challenges ahead and wisdom as we work to build a more peaceful future for all.

The Congress, by Public Law 100-307, as amended, has called on our citizens to reaffirm the role of prayer in our society by recognizing annually a “National Day of Prayer.”

NOW, THEREFORE, I, GEORGE W. BUSH, President of the United States of America, do hereby proclaim May 6, 2004, as a National Day of Prayer. I ask the citizens of our Nation to give thanks, each according to his or her own faith, for the freedoms and blessings we have received and for God's continued guidance and protection. I also urge all Americans to join in observing this day with appropriate programs, ceremonies, and activities.

IN WITNESS WHEREOF, I have hereunto set my hand this thirtieth day of April, in the year of our Lord two thousand four, and of the Independence of the United States of America the two hundred and twenty-eighth.

B

[FR Doc. 04-10370

Filed 5-4-04; 8:45 am]

Billing code 3195-01-P